DEPARTMENT OF LABOR

Employment and Training Administration

[TA-W-62,752]

Dynamerica Manufacturing LLC Muncie, IN; Notice of Affirmative Determination Regarding Application for Reconsideration

By applications dated March 18, 2008, a petitioner requested administrative reconsideration of the Department of Labor's Notice of Negative Determination Regarding Eligibility to Apply for Worker Adjustment Assistance, applicable to workers and former workers of the subject firm. The denial notice was signed on February 20, 2008 and published in the Federal Register on March 7, 2008 (73 FR 12466).

The initial investigation resulted in a negative determination based on the finding that criteria I.B and II.B have not been met. There were no plant sales or production declines nor were was there a shift in production from the subject firm abroad.

In the request for reconsideration, the petitioner provided additional information regarding the production at the subject firm and requested the Department of Labor conduct further investigation regarding a shift in production from the subject firm to Mexico.

The Department has carefully reviewed the request for reconsideration and the existing record and determined that the Department will conduct further investigation.

Conclusion

After careful review of the application, I conclude that the claim is of sufficient weight to justify reconsideration of the Department of Labor's prior decision. The application is, therefore, granted.

Signed in Washington, DC, this 1st day of April, 2008.
Elliott S. Kushner,
Certifying Officer, Division of Trade Adjustment Assistance.

[FR Doc. E8-7736 Filed 4-10-08; 8:45 am]

BILLING CODE 4510-FN-P